DEPARTMENT OF COMMERCE

National Institute of Standards and Technology

Manufacturing Extension Partnership National Advisory Board (MEPNAB)

AGENCY: National Institute of Standards and Technology, Department of Commerce.

ACTION: Request for nominations of members to serve on the Manufacturing Extension Partnership National Advisory Board.

SUMMARY: NIST invites and requests nomination of individuals for appointment to the Manufacturing Extension Partnership National Advisory Board. NIST will consider nominations received in response to this notice for appointment to the Board, in addition to nominations already received.

DATES: Please submit nominations on or before July 17, 2003.

ADDRESSES: Please submit nominations to Ms. Carrie Hines, National Institute of Standards and Technology, 100 Bureau Drive, Mail Stop 4800, Gaithersburg, MD 20899-4800. Nominations may also be submitted via FAX to 301-963-6556.

Additional information regarding the Board, including its charter and current membership list may be found on its electronic Home page at http://www.mep.nist.gov/index-nist.html.

FOR FURTHER INFORMATION CONTACT: Ms. Carrie Hines, National Institute of Standards and Technology, 100 Bureau Drive, Mail Stop 4800, Gaithersburg, MD 20899-4800; telephone 301-975-3360, fax 301-963-6556; or via e-mail at carrie.hines@nist.gov.

SUPPLEMENTARY INFORMATION: The Board will advise the Director of the National Institute of Standards and Technology (NIST) o MEP programs, plans, and policies.

The Board will consist of nine individuals appointed by the Director of the National Institute of Standards and Technology (NIST) under the advisement of the Director of MEP. Membership on the Board shall be balanced to represent the views and needs of customers, providers, and others involved in industrial extension throughout the United States.

The Board will function solely as an advisory body, in compliance with the provisions of the Federal Advisory Committee Act.

Authority: Federal Advisory Committee Act: 5 U.S.C. App. 2 and General Services Administration Rule: 41 CFR subpart 101-6.10.

Dated: June 25, 2003.
Karen H. Brown
Deputy Director.

[FR Doc. 03-16657 Filed 7-1-03; 8:45 am]

BILLING CODE 3510-13-M